ENVIRONMENTAL PROTECTION AGENCY

[EPA-HQ-OAR-2023-0239; FRL-10952-01-OAR]

Proposed Information Collection Request; Comment Request; Recordkeeping and Reporting Requirements for Fuels Regulatory Streamlining

AGENCY: Environmental Protection Agency (EPA).

ACTION: Notice.

SUMMARY: The Environmental Protection Agency is planning to submit an information collection request (ICR). “Recordkeeping and Reporting Requirements for Fuels Regulatory Streamlining (EPA ICR No. 2607.03, OMB Control No. 2060-0731) to the Office of Management and Budget (OMB) for review and approval in accordance with the Paperwork Reduction Act. Before doing so, EPA is soliciting public comments on specific aspects of the proposed information collection as described below. This is a proposed extension of the ICR, which is currently approved through January 31, 2024. An Agency may not conduct, or sponsor and a person is not required to respond to a collection of information unless it displays a currently valid OMB control number.

DATES: Comments must be submitted on or before July 31, 2023.

ADDRESSES: Submit your comments, referencing Docket ID No. EPA-HQ-OAR-2023-0239, online using www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Anne-Marie Pastorkovich, Mail Code 6405A, Environmental Protection Agency, 1200 Pennsylvania Ave. NW, Washington, DC 20460; telephone number: (202) 343-9623; email address: pastorkovich.anne-marie@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is (202) 566-1744. For additional information about EPA's public docket, visit http://www.epa.gov/dockets.

Pursuant to section 3506(c)(2)(A) of the Paperwork Reduction Act (PRA), EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register document to announce the submission of the ICR to OMB and the opportunity to submit additional comments to OMB.

Abstract: This ICR is related to information collected under 40 CFR part 1090, Fuels Regulatory Streamlining. The final rule, entitled “Fuels Regulatory Streamlining” has been published in the Federal Register. In general, the information to be collected will be used to ensure that gasoline meets standards for sulfur, benzene, RVP and oxygenate blending, and that diesel fuel meets the appropriate standard for sulfur. These fuel standards are designed to protect human health and the environment, and to reduce the harmful effects of emissions from motor vehicles and motor vehicle fuels.

The recordkeeping and reporting associated with each party is directly related to that party's opportunity to create, control, or alter the product's characteristics. Parties who manufacture fuels (e.g., refiners) generally have more recordkeeping and reporting requirements than those who merely distribute them.

The information under this ICR will be collected by the EPA's Compliance Division, within the Office of Transportation and Air Quality, Office of Air and Radiation, and by the EPA's Air Enforcement Division, within the Office of Civil Enforcement, Office of Enforcement and Compliance Assurance. The information collected will be used by the EPA to evaluate compliance with the fuel quality requirements of part 1090 under the final rule. This oversight by EPA is necessary to ensure the goals of the Clean Air Act are met. Proprietary information (i.e., information claimed as CBI) may be submitted by regulated parties; such information must be clearly marked by the submitter. Information claimed as CBI by the submitter will be handled in accordance with EPA regulations at 40 CFR part 2 and established Agency procedures. Registration and reporting activities will be conducted via EPA systems that will provide a method of identifying information claimed as CBI by the submitter (e.g., reporting formats contain a Y/N field asking submitters if they would like to claim the information as CBI).

Form numbers: EPA form numbers 5900-364, 5900-474, 5900-475, 5900-476, 5900-477, 5900-478, 5900-479, 5900-480, 5900-624, 5900-625, 5900-626, 5900-627, 5900-628, 5900-629, 5900-630.

Respondents/affected entities:

• Manufacturers of fuels—including refiners of gasoline and diesel.

• Manufacturers of regulated blendstocks, such as those who manufacturer butane, pentane, ethanol denaturant.

• Blenders, including those who blend oxygenate and detergent into gasoline.

• Transmix processors and blenders.

• Additive manufacturers, including those who produce oxygenate, detergent, or other additives.

• Parties in fuel distribution system, including pipelines, terminals, trucks, wholesale, and retail gasoline stations.

• Third parties who submit reports on behalf of the parties listed above, such as laboratories, auditors, and surveyors.

Respondent's obligation to respond: Mandatory, under 40 CFR part 1090.

Estimated number of respondents: 134,918 (total).

Frequency of response: Annually, quarterly, on occasion.

Total estimated burden: 550,205 hours (per year). Burden is defined at 5 CFR 1320.03(b).

Total estimated cost: $37,542,321 (per year), includes $5,744,016 annualized capital or operation & maintenance costs.

Changes in estimates: The OMB inventory for the expiring collection is 7,905,905 responses; for this renewal, the total will be 7,926,769. The change is an increase of 20,864 responses. The OMB inventory for the expiring collection is 608,992 hours; for the renewal, the total will be 550,205 hours. The change is a decrease of (58,787). The total cost for the expiring collection is $36,787,434; for the renewal, the total will be $37,542,321. The change is an increase of $754,887. Most of the change is due to minor updates to assumptions about respondents or time required to report. Decrease in hours is expected because most parties will have completed registration and other initial changes and updates by now. It should be noted that we changed our multiplier for calculating purchased services, based upon consultation with industry on the RFS ICR renewal (OMB Control No. 2060-0725); specifically, we now use a 2.5 multiplier to calculate purchased services cost rather than 2.0. This is based upon feedback from industry about increased overhead/benefit costs.

Byron J. Bunker,
Director, Compliance Division, Office of Transportation and Air Quality.

[FR Doc. 2023-11402 Filed 5-26-23; 8:45 am]

BILLING CODE 6560-50-P